DEPARTMENT OF AGRICULTURE

Forest Service

36 CFR Part 294

RIN 0596-AD26

Roadless Area Conservation; National Forest System Lands in Colorado; Delay of Effective Date

AGENCY: Forest Service, USDA.

ACTION: Final rule; delay of effective date.

SUMMARY: This document delays the effective date of a final rule titled, “Roadless Area Conservation; National Forest System Lands in Colorado,” that was published in the Federal Register on December 19, 2016 reinstating the North Fork Coal Mining Area exception to the Colorado Roadless Rule.

DATES: The effective date of the rule amending 36 CFR part 294 published in the Federal Register at 81 FR 91811 on December 19, 2016, is delayed until April 17, 2017.

FOR FURTHER INFORMATION CONTACT: Jason Robertson; Deputy Director; Recreation, Lands, and Minerals; Rocky Mountain Regional Office, U.S. Forest Service, at 303-275-5470. Individuals using telecommunication devices for the deaf may call the Federal Information Relay Services at 1-800-877-8339 between 8 a.m. and 8 p.m. Eastern Time, Monday through Friday.

SUPPLEMENTARY INFORMATION: On January 20, 2017, the Assistant to the President and Chief of Staff (“Chief of Staff”) issued a memorandum, published in the Federal Register on January 24, 2017 (82 FR 8346), outlining the President's plan for managing the Federal regulatory process at the outset of the new Administration. In implementation of one of the measures directed by that memorandum, the United States Department of Agriculture (“USDA”) hereby temporarily postpones the effective date of its final rule titled, “Roadless Area Conservation; National Forest System Lands in Colorado,” that was published in the Federal Register at 81 FR 91811 on December 19, 2016, reinstating the North Fork Coal Mining Area exception to the Colorado Roadless Rule.

The Colorado Roadless Rule is a State-specific rule that establishes management direction for the conservation of roadless area values and characteristics across approximately 4.2 million acres of land located within the State of Colorado in Roadless Areas on National Forest System (NFS) lands. The North Fork Coal Mining Area exception to the Colorado Roadless Rule provides for the construction of temporary roads, if needed, for coal exploration and coal-related surface activities in the 19,700-acre area defined as the North Fork Coal Mining Area. In addition, the final rule makes an administrative correction to Colorado Roadless Area boundaries associated with the North Fork Coal Mining Area based on updated information. The correction adds an additional 200 acres to the roadless area. These boundary corrections address changes identified by new road survey information. The temporary 60-day delay in effective date is necessary to give USDA officials the opportunity for further review and consideration of new regulations, consistent with the Chief of Staff's memorandum of January 20, 2017.

To the extent that 5 U.S.C. 553(b)(A) applies to this action, it is exempt from notice and comment for good cause and the reasons cited above. USDA finds that notice and solicitation of comment regarding the brief extension of the effective date for the final regulation are impracticable, unnecessary, and contrary to the public interest pursuant to 5 U.S.C. 553(b)(B). USDA believes that affected entities need to be informed as soon as possible of the extension and its length in order to plan and adjust their implementation process accordingly.

Dated: February 2, 2017.
Daniel J. Jiron,
Acting Deputy Under Secretary, Natural Resources and Environment.

[FR Doc. 2017-02625 Filed 2-8-17; 8:45 am]

BILLING CODE 3411-15-P